DEPARTMENT OF ENERGY

Federal Energy Regulatory Commission

Notice of Availability of the Draft Environmental Impact Statement for the Proposed Mountaineer Xpress and Gulf Xpress Projects

| Docket No.
Columbia Gas Transmission, LLC | CP16-357-000
Columbia Gulf Transmission, LLC | CP16-361-000

The staff of the Federal Energy Regulatory Commission (FERC or Commission) has prepared a draft environmental impact statement (EIS) for the Mountaineer XPress Project (MXP), proposed by Columbia Gas Transmission, LLC (Columbia Gas), and the Gulf XPress Project (GXP), proposed by Columbia Gulf Transmission, LLC (Columbia Gulf), in the above-referenced dockets. Columbia Gas requests authorization to construct and operate a total of 170.7 miles of natural gas transmission pipeline and ancillary facilities in West Virginia, and to modify one existing compressor station and two pending compressor stations. The MXP would provide about 2,700,000 dekatherms per day (Dth/d) of available capacity for transport to Columbia Gas' TCO Pool for delivery to markets across Columbia Pipeline Group's system, including the Columbia Gulf Leach interconnect with Columbia Gulf. Columbia Gulf requests authorization to construct and operate seven new natural gas-fired compressor stations and to upgrade a pending compressor station and one existing meter station in Kentucky, Tennessee, and Mississippi. The GXP would provide about 860,000 Dth/d of natural gas delivery to markets in the Gulf Coast region.

The draft EIS assesses the potential environmental effects of the construction and operation of the MXP and GXP in accordance with the requirements of the National Environmental Policy Act (NEPA). The FERC staff concludes that approval of the proposed projects would result in some adverse and significant environmental impacts. However, if the projects are constructed and operated in accordance with applicable laws and regulations, the mitigation measures discussed in this EIS, and our recommendations, these impacts would be reduced to acceptable levels.

The U.S. Environmental Protection Agency (EPA), U.S. Army Corps of Engineers (USACE), West Virginia Division of Natural Resources (WVDNR), and West Virginia Department of Environmental Protection (WVDEP) participated as cooperating agencies in the preparation of the EIS. Cooperating agencies have jurisdiction by law or special expertise with respect to resources potentially affected by the proposal and participate in the NEPA analysis. The USACE will adopt and use the EIS to comply with the requirements of NEPA before issuing permits for the projects under section 404 of the Clean Water Act, which governs the discharge of dredged or fill material into waters of the United States (including wetlands). Although the cooperating agencies provided input to the conclusions and recommendations presented in the draft EIS, the agencies will present their own conclusions and recommendations in their respective records of decision (where applicable) for the projects.

The draft EIS addresses the potential environmental effects of the construction and operation in West Virginia of the following MXP facilities:

• About 164.3 miles of new 36-inch-diameter natural gas pipeline from Marshall County to Cabell County;

• about 5.9 miles of new 24-inch-diameter natural gas pipeline in Doddridge County;

• three new compressor stations in Doddridge, Calhoun, and Jackson Counties;

• two new regulating stations in Ripley and Cabell Counties;

• about 296 feet of new, 10-inch-diameter natural gas pipeline at the Ripley Regulator Station to tie Columbia Gas' existing X59M1 pipeline into the MXP-100 pipeline in Jackson County;

• an approximately 0.4-mile-long replacement segment of 30-inch-diameter natural gas pipeline in Cabell County; and

• upgrades to one existing compressor station (Wayne County) and two compressor stations (Marshall and Kanawha Counties) either approved or pending under separate FERC proceedings.

The draft EIS also addresses the potential environmental effects of the construction and operation of the following GXP facilities:

• Seven new compressor stations in Kentucky (Rowan, Garrard, and Metcalfe Counties), Tennessee (Davidson and Wayne Counties), and Mississippi (Union and Granada Counties);

• upgrades to one pending compressor station in Carter County, Kentucky; and

• upgrades at one existing meter station in Boyd County, Kentucky.

The FERC staff mailed copies of the draft EIS to federal, state, and local government representatives and agencies; elected officials; environmental and public interest groups; Native American tribes; potentially affected landowners and other interested individuals and groups; and newspapers and libraries in the project areas. Paper copy versions of this EIS were mailed to those specifically requesting them; all others received a CD version. In addition, the draft EIS is available for public viewing on the FERC's Web site (www.ferc.gov) using the eLibrary link. A limited number of copies are available for distribution and public inspection at: Federal Energy Regulatory Commission, Public Reference Room, 888 First Street NE., Room 2A, Washington, DC 20426, (202) 502-8371.

Any person wishing to comment on the draft EIS may do so. To ensure consideration of your comments on the proposal in the final EIS, it is important that the Commission receive your comments on or before April 24, 2017.

For your convenience, there are four methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address: Kimberly D. Bose, Secretary, Federal Energy Regulatory Commission, 888 First Street NE., Room 1A, Washington, DC 20426.

(4) In lieu of sending written or electronic comments, the Commission invites you to attend one of the public comment sessions its staff will conduct in the project areas to receive comments on the draft EIS. The sessions are scheduled as shown below.

Date and time | Location
Monday, March 20, 2017, 5:00-9:00 p.m | Sleepy Hollow Golf & Country Club, 3780 Sleepy Hollow Drive, Hurricane, WV 25526, (304) 757-9416.
Tuesday, March 21, 2017, 5:00-9:00 p.m | Ripley High School, 2 School Street, Ripley, WV 25271, (304) 372-7355.
Wednesday, March 22, 2017, 5:00-9:00 p.m | Doddridge County Park Meeting Facility, 1252 Snowbird Road, West Union, WV 26456, (304) 873-1663.
Thursday, March 23, 2017, 5:00-9:00 p.m | New Martinsville City Hall, 195 Main Street, New Martinsville, WV 26155, (304) 455-9120.
Tuesday, March 28, 2017, 5:00-9:00 p.m | Cane Ridge High School, 12848 Old Hickory Boulevard, Antioch, TN 37013, (615) 687-4000.

The primary goal of these comment sessions is to provide the public with another method for identifying specific environmental issues and concerns with the draft EIS. Individual verbal comments will be taken on a one-on-one basis with a court reporter. This format is designed to receive the maximum amount of verbal comments in a convenient way during the timeframe allotted.

Each comment session is scheduled from 5:00 p.m. to 9:00 p.m. (local time). There will not be a formal presentation by Commission staff when the session opens. If you wish to speak, the Commission staff will hand out numbers in the order of your arrival; distribution of numbers will be discontinued at 8:00 p.m. in order to ensure all comments are received by the session closing time. However, if no additional numbers have been handed out and all individuals who wish to provide comments have had an opportunity to do so, staff may conclude the session at 8:00 p.m., or after the last comment is taken. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE., Washington, DC 20426, or call (202) 502-8371. For instructions on connecting to eLibrary, refer to the last page of this notice.

Your verbal comments will be recorded by the court reporter (with FERC staff or representative present) and become part of the public record for this proceeding. Transcripts will be publicly available on FERC's eLibrary system (see below for instructions on using eLibrary). If a significant number of people are interested in providing verbal comments in the one-on-one settings, a time limit of 3 to 5 minutes may be implemented for each commentor.

It is important to note that verbal comments hold the same weight as written or electronically submitted comments. Although there will not be a formal presentation, Commission staff will be available throughout the comment session to answer your questions about the FERC environmental review process.

Any person seeking to become a party to the proceeding must file a motion to intervene pursuant to Rule 214 of the Commission's Rules of Practice and Procedures (18 CFR 385.214).² Only intervenors have the right to seek rehearing of the Commission's decision. The Commission grants affected landowners and others with environmental concerns intervenor status upon showing good cause by stating that they have a clear and direct interest in this proceeding which no other party can adequately represent. Simply filing environmental comments will not give you intervenor status, but you do not need intervenor status to have your comments considered.

² See the previous discussion on the methods for filing comments.

Questions?

Additional information about the projects is available from the Commission's Office of External Affairs, at (866) 208-FERC, or on the FERC Web site (www.ferc.gov) using the eLibrary link. Click on the eLibrary link, click on “General Search,” and enter the docket number excluding the last three digits in the Docket Number field (i.e., CP16-357 and CP16-361). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Kimberly D. Bose,
Secretary.

[FR Doc. 2017-04303 Filed 3-3-17; 8:45 am]

BILLING CODE 6717-01-P